DEPARTMENT OF HEALTH AND HUMAN SERVICES

Substance Abuse and Mental Health Services Administration

Cooperative Agreements with Single State Agencies for Alcohol and Other Drug Abuse for Conducting Evaluations

AGENCY: Center for Substance Abuse Treatment, Substance Abuse and Mental Health Services Administration, HHS.

ACTION: Cooperative Agreements with Single State Agencies for Alcohol and Other Drug Abuse for Assistance to States for Conducting Evaluations of their Substance Abuse Treatment Services.

SUMMARY: This notice is to inform the public of planned cooperative agreements that the Substance Abuse and Mental Health Services Administration (SAMHSA) Center for Substance Abuse Treatment (CSAT), under its State Treatment Needs Assessment Program (STNAP), intends to award to Single State Agencies (SSAs) for Alcohol and Other Drug Abuse. In fiscal year 2001, CSAT has approximately $2.1 million available for 7 to 9 awards. Awards will be made if the applications are scored by the initial review group and concurred with by the CSAT National Advisory Council.

Eligibility for cooperative agreements is limited to SSAs for Alcohol and Other Drug Abuse because the States have statutory responsibility for developing and submitting services needs assessment estimates in order to receive a Substance Abuse Prevention and Treatment (SAPT) Block Grant. By providing assistance to the States for conducting evaluations of their substance abuse treatment services, CSAT, under its STNAP, seeks to help States to determine methods for improving the availability and quality of treatment. The STNAP objectives are to: assist States to take advantage of existing data to develop estimates of need for services and report these data on the annual SAPT Block Grant application; assist States to develop and institutionalize their capability to use data that already exist and to manage data collection and analyses, as needed, to supplement existing data sources; assist States to conduct common assessment studies needed to augment their existing data and to improve the opportunities for aggregation of data across States; and allow for aggregation of data across States for SAMHSA/CSAT to use in secondary analyses, multi-State comparisons, and for augmenting other information collected within SAMHSA.

Authority: Cooperative agreements with SSAs for Alcohol and Other Drug Abuse will be made under the authority of section 1935 (b)(1)(C) and (b)(3) of the Public Health Service Act, as amended (42 USC 300x-35), and section 1929. The Catalog of Federal Domestic Assistance number is 93.238.

FOR FURTHER INFORMATION CONTACT: Nita Fleagle, CSAT, SAMHSA, Rockwall II, Suite 840, 5600 Fishers Lane, Rockville, MD 20857; telephone (301) 443-8572; e-mail: nfleagle@samhsa.gov

Dated: May 1, 2001.
Richard Kopanda,
Executive Officer, SAMHSA.

[FR Doc. 01-11448 Filed 5-7-01; 8:45 am]

BILLING CODE 4162-20-P